DEPARTMENT OF THE INTERIOR

National Park Service

[NPS-WASO-NAGPRA-NPS0040319; PPWOCRADN0-PCU00RP14.R50000]

Notice of Intended Repatriation: Museum of Indian Arts and Culture, Santa Fe, NM

AGENCY: National Park Service, Interior.

ACTION: Notice.

SUMMARY: In accordance with the Native American Graves Protection and Repatriation Act (NAGPRA), the Museum of Indian Arts and Culture intends to repatriate certain cultural items that meet the definition of sacred objects and objects of cultural patrimony and that have a cultural affiliation with the Indian Tribes or Native Hawaiian organizations in this notice.

DATES: Repatriation of the cultural items in this notice may occur on or after July 11, 2025.

ADDRESSES: Send additional, written requests for repatriation of the cultural items in this notice to Diana Sherman, Museum of Indian Arts and Culture, 708 Old Cochiti Road, Santa Fe, NM 87507, email diana.sherman@dca.nm.gov.

SUPPLEMENTARY INFORMATION: This notice is published as part of the National Park Service's administrative responsibilities under NAGPRA. The determinations in this notice are the sole responsibility of the Museum of Indian Arts and Culture, and additional information on the determinations in this notice, including the results of consultation, can be found in the summary or related records. The National Park Service is not responsible for the determinations in this notice.

Abstract of Information Available

A total of 92 lots of cultural items have been requested for repatriation. The 92 sacred objects/objects of cultural patrimony are five lots of botanical/vegetal material, 58 lots of ceramic material, two lots of fauna material, 10 lots of groundstone material, 12 lots of lithic material, two lots of mixed materials, and three lots of beads/ornaments cultural items have been requested for repatriation. The cultural items include lithic flakes and tools, pottery sherds and partial vessels, manos and metate fragments, animal bone both worked and unmodified, beads and ornamental objects, botanical materials and soil or pollen, and historic objects. This site, which has been dated as a Pueblo II site within Santa Fe County, NM, was excavated in 1952 by the Museum of New Mexico. All the individual ancestors who were removed from their burials were sent to the Museum of Us in San Diego and were later repatriated to Pojoaque Pueblo from there. The exception is one ancestor who remained there and is currently being repatriated to Pojoaque, as she should have been included in the repatriation, as are a few fragmentary ancestors found in boxes of animal bone at the Museum. The rest of the cultural items remained at the Museum. A consultation with Pojoaque Pueblo and five other New Mexico Tewa Pueblos led to Pojoaque being the repatriating Tribe and determined Pojoaque Pueblo is culturally affiliated with this site. It is the Pueblo of Pojoaque who is requesting the repatriation of these cultural items. There are no known hazardous substances used to treat these cultural items.

Determinations

The Museum of Indian Arts and Culture has determined that:

• The 92 lots of sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Pueblo of Pojoaque, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 11, 2025. If competing requests for repatriation are received, the Museum of Indian Arts and Culture must determine the most appropriate requestor prior to repatriation. Requests for joint repatriation of the cultural items are considered a single request and not competing requests. The Museum of Indian Arts and Culture is responsible for sending a copy of this notice to the Indian Tribes and Native Hawaiian organizations identified in this notice and to any other consulting parties.

Authority: Native American Graves Protection and Repatriation Act, 25 U.S.C. 3004 and the implementing regulations, 43 CFR 10.9.

Dated: May 28, 2025.
Melanie O'Brien,
Manager, National NAGPRA Program.

[FR Doc. 2025-10589 Filed 6-10-25; 8:45 am]

BILLING CODE 4312-52-P